DEPARTMENT OF AGRICULTURE

Agricultural Marketing Service

7 CFR Part 1220

[No. LS-05-07]

Soybean Promotion and Research Program; Section 610 Review

AGENCY: Agricultural Marketing Service, USDA.

ACTION: Notice of review and request for comments.

SUMMARY: This action announces the Agricultural Marketing Service's (AMS) review of the Soybean Promotion and Research Program (conducted under the Soybean Promotion and Research Order), under the criteria contained in section 610 of the Regulatory Flexibility Act (RFA).

DATES: Written comments on this notice must be received by January 31, 2006.

ADDRESSES: Interested persons are invited to submit written comments concerning this notice of review. Comments must be sent to Kenneth R. Payne, Chief, Marketing Programs, Livestock and Seed Program, AMS, USDA, Room 2638-S, STOP 0251, 1400 Independence Avenue, SW., Washington, DC 20250-0251; Fax: (202) 720-1125; or via e-mail at soybeancomments@usda.gov. All comments should reference the docket number, the date, and the page number of this issue of the Federal Register. Comments will be available for public inspection via the Internet at http://www.ams.usda.gov/lsg/mpb/rp-soy.htm or during regular business hours.

FOR FURTHER INFORMATION CONTACT: Kenneth R. Payne, Chief; Marketing Programs Branch; Livestock and Seed Program, AMS, USDA; STOP-0251; 1400 Independence Avenue, SW., Washington, DC 20250-0251. Telephone number 202/720-1115.

SUPPLEMENTARY INFORMATION: The Soybean Promotion and Research Order (Order) (7 CFR 1220) is authorized under the Soybean Promotion, Research, and Consumer Information Act (Act) (7 U.S.C. 6301 et seq.). This program is a national producer program for soybean and soybean product promotion, research, consumer information, and industry information as part of a comprehensive strategy to strengthen the soybean industry's position in the marketplace by maintaining and expanding existing domestic and foreign markets and uses for soybeans and soybean products, and to develop new markets and uses for soybean and soybean products. Soybean producers fund this program through a mandatory assessment of one-half of one percent (0.5 percent) of the net market price per bushel on soybeans marketed. Assessments collected under this program are used for promotion, research, consumer information, and industry information.

The national program is administered by the United Soybean Board (Board), which has 64 producer members. Board members serve 3-year terms and represent one of 30 geographic units. The Order became effective on July 9, 1991.

AMS published in the Federal Register (64 FR 8014; February 18, 1999), its plan to review certain regulations.

On January 4, 2002, AMS published in the Federal Register (67 FR 525), an update to its plan to review regulations, including the Soybean Promotion and Research Program (conducted under the Soybean Promotion and Research Order), under criteria contained in section 610 of the Regulatory Flexibility Act (RFA; 5 U.S.C. 601-612). Because many AMS regulations impact small entities, AMS decided, as a matter of policy, to review certain regulations which, although they may not meet the threshold requirement under section 610 of the RFA, warrant review. Accordingly, this notice and request for comments is made for the Order.

The purpose of the review is to determine whether the Order should be continued without change, amended, or rescinded (consistent with the objectives of the Act) to minimize the impacts on small entities. AMS will consider the continued need for the Order; the nature of complaints or comments received from the public concerning the Order; the complexity of the Order; the extent to which the promotion Order overlaps, duplicates, or conflicts with other Federal rules, and, to the extent feasible, with State and local government rules; and the length of time since the Order has been evaluated or the degree to which technology, economic conditions, or other factors have changed in the area affected by the Order.

Written comments, views, opinions, and other information regarding the Order's impact on small businesses are invited.

Authority: 7 U.S.C. 6301-6311.

Dated: November 28, 2005.
Lloyd C. Day,
Administrator, Agricultural Marketing Service.

[FR Doc. E5-6786 Filed 12-1-05; 8:45 am]

BILLING CODE 3410-02-P